DEPARTMENT OF ENERGY

Federal Energy Regulatory Commission

Combined Notice of Filings

Take notice that the Commission has received the following Natural Gas Pipeline Rate and Refund Report filings:

Filings Instituting Proceedings

Docket Numbers: RP18-224-000.

Applicants: Equitrans, L.P.

Description: § 4(d) Rate Filing: Negotiated Capacity Release Agreements—12/1/2017 to be effective 12/1/2017.

Filed Date: 12/1/17.

Accession Number: 20171201-5029.

Comments Due: 5 p.m. ET 12/13/17.

Docket Numbers: RP18-225-000.

Applicants: Portland Natural Gas Transmission System.

Description: § 4(d) Rate Filing: C2C Negotiated Rate Agreements to be effective 12/1/2017.

Filed Date: 12/1/17.

Accession Number: 20171201-5065.

Comments Due: 5 p.m. ET 12/13/17.

Docket Numbers: RP18-226-000.

Applicants: Equitrans, L.P.

Description: § 4(d) Rate Filing: AVC Retainage Tracker to be effective 1/1/2018.

Filed Date: 12/1/17.

Accession Number: 20171201-5079.

Comments Due: 5 p.m. ET 12/13/17.

Docket Numbers: RP18-227-000.

Applicants: Cameron Interstate Pipeline, LLC.

Description: Compliance filing Cameron Interstate Pipeline Annual Adjustment of Fuel Retainage Percentage to be effective 1/1/2018.

Filed Date: 12/1/17.

Accession Number: 20171201-5176.

Comments Due: 5 p.m. ET 12/13/17.

Docket Numbers: RP18-228-000.

Applicants: Rockies Express Pipeline LLC.

Description: § 4(d) Rate Filing: Revisions to Provisions for FL&U and Power Cost Tracker to be effective 4/1/2018.

Filed Date: 12/1/17.

Accession Number: 20171201-5195.

Comments Due: 5 p.m. ET 12/13/17.

Docket Numbers: RP18-229-000.

Applicants: Rockies Express Pipeline LLC.

Description: § 4(d) Rate Filing: Administrative Updates to Tariff to be effective 1/1/2018.

Filed Date: 12/1/17.

Accession Number: 20171201-5265.

Comments Due: 5 p.m. ET 12/13/17.

Docket Numbers: RP18-230-000.

Applicants: Texas Eastern Transmission, LP.

Description: § 4(d) Rate Filing: Access South Adair Southwest Lebanon Extension Compliance Filing to be effective 1/1/2018.

Filed Date: 12/1/17.

Accession Number: 20171201-5274.

Comments Due: 5 p.m. ET 12/13/17.

Docket Numbers: RP18-231-000.

Applicants: Sierrita Gas Pipeline LLC.

Description: § 4(d) Rate Filing: Non-Conforming Agreement Filing (CFEI) to be effective 1/1/2018.

Filed Date: 12/1/17.

Accession Number: 20171201-5310.

Comments Due: 5 p.m. ET 12/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2017.
Nathaniel J. Davis, Sr.,
Deputy Secretary.

[FR Doc. 2017-26498 Filed 12-7-17; 8:45 am]

BILLING CODE 6717-01-P